DEPARTMENT OF THE INTERIOR

Bureau of Land Management

[NV-930-4210-05; N-63336]

Notice of Realty Action: Lease/Conveyance for Recreation and Public Purposes

AGENCY: Bureau of Land Management, Interior.

ACTION: Recreation and public purpose lease/conveyance.

SUMMARY: The following described public land in Las Vegas, Clark County, Nevada has been examined and found suitable for lease/conveyance for recreational or public purposes under the provisions of the Recreation and Public Purposes Act, as amended (43 U.S.C. 869 et seq.) (R&PP). The City of Las Vegas proposes to use the land for a public park.

SUPPLEMENTARY INFORMATION:

Mount Diablo Meridian, Nevada

T. 20S., R. 60E.,

Section 27,

SW¼NW¼NW¼SW¼, SW¼NW¼SW¼, S½SE¼NW¼SW¼,

S½S½NE¼SW¼, SW¼NE¼SE¼, S½NW¼SE¼, S½NW¼NE¼SW¼SE¼, SW¼NE¼SW¼SE¼,

S½N½NW¼SW¼SE¼,

W½SE¼SW¼SE¼, E½SE¼SE¼,

Section 28,

N½SW¼, W½NE¼SW¼SW¼, NW¼SE¼SW¼, E½NE¼SE¼,

W½NW¼NE¼SE¼, SE¼NW¼NE¼SE¼, SW¼NE¼SE¼

NW¼SE¼, E½NW¼SW¼SE¼.

Containing 266.5 acres, more or less.

The land is not required for any federal purpose. The lease/conveyance is consistent with current Bureau planning for this area and would be in the public interest. This lease/conveyance is subject to all valid and existing rights. The lease/patent, when issued, will be subject to the provisions of the Recreation and Public Purposes Act and applicable regulations of the Secretary of the Interior, and will contain the following reservations to the United States:

1. A right-of-way thereon for ditches or canals constructed by the authority of the United States, Act of August 30, 1890 (43 U.S.C. 945).

2. All minerals shall be reserved to the United States, together with the right to prospect for, mine and remove such deposits from the same under applicable law and such regulations as the Secretary of the Interior may prescribe and will be subject to:

Those rights for public utility purposes which have been granted to Nevada Power Company by Permit Nos. N-51943, N-61618, N-55965, N-59930 and N-43546, Central Telephone Company by Permit Nos. N-33429, N-42514 and N-31028, the Las Vegas Valley Water District by Permit Nos. N-16999, N-48185, N-53358 and N-51605, the City of Las Vegas by Permit Nos. N-37142, N-38851, N-41255, N-46267, N-58670 and N-73906, under the Act of October 26, 1978 (FLPMA).

Detailed information concerning this action is available for review at the office of the Bureau of Land Management, Las Vegas Field Office, 4701 N. Torrey Pines Drive, Las Vegas, Nevada. Upon publication of this notice in the Federal Register, the above described land will be segregated from all other forms of appropriation under the public land laws, including the general mining laws, except for lease/conveyance under the Recreation and Public Purposes Act, leasing under the mineral leasing laws and disposals under the mineral material disposal laws.

For a period of 45 days from the date of publication of this notice in the Federal Register, interested parties may submit comments regarding the proposed lease/conveyance for classification of the lands to the Field Manager, Las Vegas Field Office, Las Vegas, Nevada 89130.

Classification Comments: Interested parties may submit comments involving the suitability of the land for a public park. Comments on the classification are restricted to whether the land is physically suited for the proposal, whether the use will maximize the future use or uses of the land, whether the use is consistent with local planning and zoning, or if the use is consistent with State and Federal programs.

Application Comments: Interested parties may submit comments regarding the specific use proposed in the application and plan of development, whether the BLM followed proper administrative procedures in reaching the decision, or any other factor not directly related to the suitability of the land for a public park.

Any adverse comments will be reviewed by the State Director.

In the absence of any adverse comments, the classification of the land described in this Notice will become effective 60 days from the date of publication in the Federal Register. The lands will not be offered for lease/conveyance until after the classification becomes effective.

Dated: July 15, 2003.
Sharon DiPinto,
Acting Assistant Field Manager, Division of Lands, Las Vegas, NV.

[FR Doc. 03-20462 Filed 8-11-03; 8:45 am]

BILLING CODE 4510-HC-P